FEDERAL COMMUNICATIONS COMMISSION

[GN Docket No. 19-329; FR ID 104375]

Federal Advisory Committee Act; Task Force for Reviewing the Connectivity and Technology Needs of Precision Agriculture in the United States

AGENCY: Federal Communications Commission.

ACTION: Notice of public meeting.

SUMMARY: In accordance with the Federal Advisory Committee Act, this notice advises interested persons that the Federal Communications Commission's (FCC or Commission) Task Force for Reviewing the Connectivity and Technology Needs of Precision Agriculture in the United States (Task Force) will hold its next meeting via live internet link.

DATES: October 5, 2022. The meeting will come to order at 3 p.m. EDT.

ADDRESSES: The meeting will be held via conference call and be available to the public via live feed from the FCC's web page at www.fcc.gov/live.

FOR FURTHER INFORMATION CONTACT: Elizabeth Cuttner, Designated Federal Officer, at (202) 418-2145, or Elizabeth.Cuttner@fcc.gov; Stacy Ferraro, Deputy Designated Federal Officer, at (202) 418-0795, or Stacy.Ferraro@fcc.gov; or Lauren Garry, Deputy Designated Federal Officer, at (202) 418-0942, or Lauren.Garry@fcc.gov.

SUPPLEMENTARY INFORMATION: The meeting will be held on October 5, 2022 at 3 p.m. EDT and may be viewed live, by the public, at http://www.fcc.gov/live. Any questions that arise during the meeting should be sent to PrecisionAgTF@fcc.gov and will be answered at a later date. Members of the public may submit comments to the Task Force in the FCC's Electronic Comment Filing System, ECFS, at www.fcc.gov/ecfs. Comments to the Task Force should be filed in GN Docket No. 19-329.

Open captioning will be provided for this event. Other reasonable accommodations for people with disabilities are available upon request. Requests for such accommodations should be submitted via email to fcc504@fcc.gov or by calling the Consumer & Governmental Affairs Bureau at (202) 418-0530 (voice). Such requests should include a detailed description of the accommodation needed. In addition, please include a way the FCC can contact you if it needs more information. Please allow at least five days' advance notice; last-minute requests will be accepted but may not be possible to fill.

Proposed Agenda: At this meeting, the Task Force will cover updates from Working Groups on their progress and discuss Working Group Reports. This agenda may be modified at the discretion of the Task Force Chair and the Designated Federal Officer.

Federal Communications Commission.
Marlene Dortch,
Secretary.

[FR Doc. 2022-20111 Filed 9-15-22; 8:45 am]

BILLING CODE 6712-01-P